DEPARTMENT OF AGRICULTURE

Animal and Plant Health Inspection Service

[Docket No. APHIS-2015-0099]

Availability of an Environmental Assessment for the Biological Control of Cape Ivy

AGENCY: Animal and Plant Health Inspection Service, USDA.

ACTION: Notice of availability and request for comments.

SUMMARY: We are advising the public that the Animal and Plant Health Inspection Service has prepared a draft environmental assessment relative to the control of Cape ivy, Delairea odorata. The environmental assessment considers the effects of, and alternatives to, the field release of a gall-forming fly, Parafreutreta regalis, into the continental United States for use as a biological control agent to reduce the severity of Cape Ivy infestations. We are making the environmental assessment available to the public for review and comment.

DATES: We will consider all comments that we receive on or before April 25, 2016.

ADDRESSES: You may submit comments by either of the following methods:

• Federal eRulemaking Portal: Go to http://www.regulations.gov/#!docketDetail;D=APHIS-2015-0099.

• Postal Mail/Commercial Delivery: Send your comment to Docket No. APHIS-2015-0099, Regulatory Analysis and Development, PPD, APHIS, Station 3A-03.8, 4700 River Road, Unit 118, Riverdale, MD 20737-1238.

Supporting documents and any comments we receive on this docket may be viewed at http://www.regulations.gov/#!docketDetail;D=APHIS-2015-0099 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. Robert Tichenor, Senior Entomologist, Plant Health Programs, PPQ, APHIS, 4700 River Road, Unit 133, Riverdale, MD 20737-1231; (301) 851-2198.

SUPPLEMENTARY INFORMATION: Cape ivy (Delairea odorata), a native of South Africa, has become one of the most pervasive non-native plants to invade the coastal west region of the United States, particularly in California and Oregon. Cape ivy is a weedy vine that prefers moist, partly-shaded environments along the Pacific coast; however, there are reports of infestations at inland riparian locations. Fragments of the plant easily root, which facilitates the spread of this invasive plant. Overgrowth of cape ivy, a climbing vine, causes native plants to die. The Animal and Plant Health Inspection Service (APHIS) is proposing to issue permits for the field release of a gall-forming fly, Parafreutreta regalis, into the continental United States to reduce the severity of cape ivy infestations.

APHIS' review and analysis of the proposed action are documented in detail in a draft environmental assessment (EA) entitled “Field Release of the Gall-forming Fly, Parafreutreta regalis Munro (Diptera: Tephritidae), for Biological Control of Cape-ivy, Delairea ordorata (Asterales: Asteraceae), in the Contiguous United States” (February 2015). We are making the EA available to the public for review and comment. We will consider all comments that we receive on or before the date listed under the heading DATES at the beginning of this notice.

The EA may be viewed on the Regulations.gov Web site or in our reading room (see ADDRESSES above for a link to Regulations.gov and information on the location and hours of the reading room). You may request paper copies of the draft EA by calling or writing to the person listed under FOR FURTHER INFORMAITON CONTACT. Please refer to the title of the EA when requesting copies.

The EA has been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 17th day of March 2016.
Kevin Shea,
Administrator, Animal and Plant Health Inspection Service.

[FR Doc. 2016-06658 Filed 3-23-16; 8:45 am]

BILLING CODE 3410-34-P